DEPARTMENT OF JUSTICE

Notice of Lodging of Settlement Agreement Under the Resource Conservation And Recovery Act and the Emergency Planning and Community Right-to-Know Act

Notice is hereby given that on April 11, 2012, a proposed revised Consent Decree in United States v. Clean Harbors of Braintree, Inc., No. 11-11440, was lodged with the United States District Court for the District of Massachusetts. The United States filed this action, on August 12, 2011, under the Resource Conservation and Recovery Act (“RCRA”), 42 U.S.C. 6901, et seq., and the Emergency Planning and Community Right-to-Know Act (“EPCRA”), 42 U.S.C. 11001, et seq. The Complaint alleged that Clean Harbors of Braintree, Inc. (“Clean Harbors”) violated various provisions of RCRA and EPCRA, as well as their implementing permits and regulations, at the hazardous waste treatment, storage, and disposal facility operated by Clean Harbors at 1 Hill Avenue in Braintree, Massachusetts. At the time the United States filed the action, it also lodged the original Consent Decree, which resolved the civil claims of the United States for the violations alleged in the Complaint through the date of lodging of the Consent Decree. Under the original Consent Decree, Clean Harbors agreed to certain injunctive relief, to pay a penalty in the amount of $650,000, and to implement a Supplemental Environmental Project, at a cost of at least $1,062,500, involving the planting of trees in low-income or minority areas located in the City of Boston (“Boston Tree SEP”). After consideration of public comment received concerning the original Consent Decree, the United States and Clean Harbors have withdrawn the original Consent Decree and have entered into the revised Consent Decree. The revised Consent Decree adjusts downward the number of trees planted under the Boston Tree SEP, and now includes an additional Supplemental Environmental Project involving the acquisition of an aerial ladder fire truck for the Town of Braintree. Under the revised Consent Decree, Clean Harbors will expend at least $612,500 on the Boston Tree SEP. Clean Harbors will also acquire, or cause to be acquired, an aerial ladder fire truck for the Town of Braintree. The Town of Braintree may contribute toward a portion of the cost of the truck, but Clean Harbors's contribution must be at least $450,000 and Clean Harbors will be responsible for acquisition of the fire truck regardless of whether or not the Town of Braintree contributes any monies toward the fire truck.

For a period of thirty days from the date of this publication, the Department of Justice will receive and consider comments relating to the revised Consent Decree. All comments must be received by the Department of Justice within this thirty-day period. Comments should be addressed to the Assistant Attorney General, Environment and Natural Resources Division, and either emailed to pubcomment-ees.enrd@usdoj.gov or mailed to P.O. Box 7611, U.S. Department of Justice, Washington, DC 20044, and should refer to United States v. Clean Harbors of Braintree, Inc., No. 11-11440 (D. Mass.) and D.J. Ref. No. 90-7-1-09439. A copy of any comments should be sent to Donald G. Frankel, Senior Counsel, Department of Justice, Environmental Enforcement Section, One Gateway Center, Suite 616, Newton, MA 02458, or emailed to donald.frankel@usdoj.gov.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy of the Consent Decree from the Consent Decree Library, please enclose a check in the amount of $9.50 (25 cents per page reproduction cost) payable to the U.S. Treasury (if the request is by fax or email, forward a check to the Consent Decree library at the address stated above).

Ronald G. Gluck,
Assistant Section Chief, Environmental Enforcement Section, Environment and Natural Resources Division.

[FR Doc. 2012-9892 Filed 4-24-12; 8:45 am]

BILLING CODE 4410-15-P